DEPARTMENT OF HOMELAND SECURITY

8 CFR Parts 103, 106, 204, 211, 212, 214, 216, 217, 223, 235, 236, 240, 244, 245, 245a, 248, 264, 274a, 286, 301, 319, 320, 322, 324, 334, 341, 343a, 343b, and 392

[CIS No. 2627-18; DHS Docket No. USCIS-2019-0010]

RIN 1615-AC18

U.S. Citizenship and Immigration Services Fee Schedule and Changes to Certain Other Immigration Benefit Request Requirements

AGENCY: U.S. Citizenship and Immigration Services, Department of Homeland Security.

ACTION: Notification of preliminary injunction.

SUMMARY: U.S. Citizenship and Immigration Services (USCIS) is issuing this document to inform the public of two preliminary injunctions ordered by Federal district courts affecting the Department of Homeland Security's (the Department, or DHS) final rule entitled “U.S. Citizenship and Immigration Services Fee Schedule and Changes to Certain Other Immigration Benefit Request Requirements.”

DATES: The court orders were effective September 29, 2020 and October 8, 2020.

FOR FURTHER INFORMATION CONTACT: For technical questions only: Kika Scott, Chief Financial Officer, U.S. Citizenship and Immigration Services, Department of Homeland Security, 5900 Capital Gateway Drive, Camp Springs, MD 20588-0009, telephone (240) 721-3000.

SUPPLEMENTARY INFORMATION: On August 3, 2020, the Department published a final rule in the Federal Register at 85 FR 46788 entitled “U.S. Citizenship and Immigration Services Fee Schedule and Changes to Certain Other Immigration Benefit Request Requirements” (the “Final Rule”). The Final Rule was to be effective October 2, 2020.

On August 20, 2020, the Immigrant Legal Resource Center and other plaintiffs filed a lawsuit in the U.S. District Court for the Northern District of California, Immigration Legal Resource Center et al., v. Wolf, et al., 20-cv-05883-JWS (“ILRC v. Wolf”), seeking a court order to prohibit the Department from implementing or enforcing the Final Rule. Plaintiffs subsequently filed a motion for a preliminary injunction and stay of the effective date of the Final Rule.

On September 3, 2020, Northwest Immigrant Rights Project (NWIRP) and other plaintiffs in Nw. Immigrant Rts. Project, et al., v. USCIS, No. 19-cv-3283 (RDM) (“NWIRP v. USCIS”), filed a motion in the U.S. District Court for the District of Columbia requesting postponement of the effective date of the Final Rule, stay of any implementation or enforcement of the Final Rule, and for a preliminary injunction against implementation or enforcement of the Final Rule.

On September 29, 2020, the U.S. District Court for the Northern District of California, in ILRC v. Wolf, preliminarily enjoined DHS from implementing or enforcing any part of the Final Rule. See Immigration Legal Resource Center et al., v. Wolf, et al., No. 20-cv-05883-JWS, 2020 WL 5798269 (N.D. Cal. Sept. 29, 2020).

On October 8, 2020, the U.S. District Court for the District of Columbia granted NWIRP's motion for a preliminary injunction. See NWIRP v. USCIS, No. CV 19-3283 (RDM), 2020 WL 5995206 (D.D.C. Oct. 8, 2020).

The Department is complying with the terms of these orders and is not enforcing the regulatory changes set out in the Final Rule. USCIS will continue to accept the fees that were in place prior to October 2, 2020, and follow the guidance in place prior to October 2, 2020 to adjudicate fee waiver requests as provided under the Adjudicator's Field Manual (AFM) Chapters 10.9 and 10.10.

Any further guidance and updates regarding the subject litigation will be posted on the USCIS website https://www.uscis.gov/news/news-releases/uscis-response-to-preliminary-injunction-of-fee-rule on an ongoing basis.

Tracy L. Renaud,
Senior Official Performing the Duties of the Director.

[FR Doc. 2021-02044 Filed 1-28-21; 8:45 am]

BILLING CODE 9111-97-P